ENVIRONMENTAL PROTECTION AGENCY

[EPA-HQ-OPPT-2009-0106; FRL-8406-4]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from December 22, 2008 through January 23, 2009, consists of the PMNs and TME, both pending or expired, and the notices of commencement to manufacture a new chemical that the Agency has received under TSCA section 5 during this time period.

DATES: Comments identified by the specific PMN number or TME number, must be received on or before May 13, 2009.

ADDRESSES: Submit your comments, identified by docket identification (ID) number EPA-HQ-OPPT-2009-0106, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2009-0106. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2009-0106. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from December 22, 2008 through January 23, 2009, consists of the PMNs and TME, both pending or expired, and the notices of commencement to manufacture a new chemical that the Agency has received under TSCA section 5 during this time period.

III. Receipt and Status Report for PMNs

This status report identifies the PMNs and TME, both pending or expired, and the notices of commencement to manufacture a new chemical that the Agency has received under TSCA section 5 during this time period. If you are interested in information that is not included in the following tables, you may contact EPA as described in Unit I. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 48 Premanufacture Notices Received From: 12/22/08 to 01/23/09
Case No. | Received Date | Projected Notice End Date | Manufacturer/Importer | Use | Chemical
P-09-0130 | 12/19/08 | 03/18/09 | Huntsman Corporation | (G) Polyol for flexible and rigid polyurethane foam applications. | (S) Soybean oil, epoxidized, reaction products with diethanolamine
P-09-0131 | 12/19/08 | 03/18/09 | CBI | (G) Raw material for the production of biphenyl dianhydride | (G) Aromatic carboxylic acid
P-09-0132 | 12/19/08 | 03/18/09 | CBI | (G) Processing aid | (G) Alkyl substituted polyamide
P-09-0133 | 12/22/08 | 03/21/09 | Evonik Degussa | (S) Extrusion of tubing systems; injection molding of special applications | (G) Aromatic dicarboxylic acid, polymer with alkane dicarboxylic acid and alkanediamine
P-09-0134 | 12/22/08 | 03/21/09 | CBI | (G) Pour point depressant | (G) Furandione polymer with ethenylbenzene, alkyl ester
P-09-0135 | 12/22/08 | 03/21/09 | ICL-IP America Inc. | (S) Flame retardant for polyurethane foam | (G) Pentabromobenzyl dialkylene glycol alkyl ether
P-09-0136 | 12/23/08 | 03/22/09 | Henkel Corporation | (S) A catalyst in polyalkene syntheses | (S) Phosphorus(1+), dichlorobis(phosphorimidic trichloridato-.kappa.N)-, (T-4)-, hexachlorophosphate(1-) (1:1)
P-09-0137 | 12/23/08 | 03/22/09 | CBI | (S) Packaging adhesive | (G) Aromatic polyether polyester polyurethane, isocyanate-terminated
P-09-0138 | 12/23/08 | 03/22/09 | Cook Composites and Polymers Co. | (S) Thermoset laminating resin for reinforced composite parts; thermoset closed molding resin for reinforced composite parts | (G) Alkanediol, polymer with 2,5-furandione and 3a,4,7,7a-tetrahydro-4,7-methano-1H-indene
P-09-0139 | 12/24/08 | 03/23/09 | Huntsman Corporation | (G) Dispersant | (S) 1-propanamine, 3-[2-(2-methoxyethoxy)ethoxy]-
P-09-0140 | 12/24/08 | 03/23/09 | CBI | (G) Resin component | (G) Sodium tetrasilisic mica
P-09-0141 | 12/29/08 | 03/28/09 | Arkema Inc. | (G) Catalyst | (G) 1,3-ethyl, methylimidazolium undecafluoro substituted ionic methalic species
P-09-0142 | 12/29/08 | 03/28/09 | Nano-C, Inc. | (S) (1) Compound that functions to improve conductivity in organic electronic devices. (2) Compound used to improve the mechanical properties of lubricants and plastics. | (S) 3,H-cyclopropa[1,9][5,6]fullerene-C60-IH-3′-butanoic acid, 3′-phenyl-, methyl ester
P-09-0143 | 12/29/08 | 03/28/09 | CBI | (S) (1) Compound that functions to improve conductivity in organic electronic devices. (2) Compound used to improve the mechanical properties of lubricants and plastics. | (S) 3,H-cyclopropa[8,25][5,6]fullerene-C70-d5h(6)-3′-butanoic acid, 3′-phenyl-, methyl ester
P-09-0144 | 12/29/08 | 03/28/09 | CBI | (S) (1) Compound that functions to improve conductivity in organic electronic devices. (2) Compound used to improve the mechanical properties of lubricants and plastics. | (S) 3,H-cyclopropa[7,22][5,6]fullerene-C70-d5h(6)-3′-butanoic acid, 3′-phenyl-, methyl ester
P-09-0145 | 12/31/08 | 03/30/09 | CBI | (S) Adhesion promoter for thermoset adhesives | (S) 2-propenoic acid, 2-methyl-, 1,1′-[(3-heptyl-4-pentyl-1,2-cyclohexanediyl)bis(9,1-nonanediyliminocarbonyloxy-2,1-ethanediyl)]ester
P-09-0145 | 12/31/08 | 03/30/09 | CBI | (S) Adhesion promoter for thermoset adhesives | (S) 2-propenoic acid, 2-methyl-, 2-[[[[9-[3(or 6)-heptyl-2-[9-[[(2-oxiranylmethoxy)carbonyl]amino]nonyl]pentylcyclohexyl]nonyl]amino]carbonyl]oxy]ethyl ester
P-09-0145 | 12/31/08 | 03/30/09 | CBI | (S) Adhesion promoter for thermoset adhesives | (S) Carbamic acid, N,N′-[(3-heptyl-4-pentyl-1,2-cyclohexanediyl)di-9,1-nonanediyl]bis-, C,C′-bis(2-oxiranylmethyl) ester
P-09-0146 | 01/05/09 | 04/04/09 | CBI | (G) Adhesive | (S) Formaldehyde, polymers with acetone-phenol reaction products and phenol, sodium salts
P-09-0147 | 01/05/09 | 04/04/09 | CBI | (G) Adhesive | (S) Formaldehyde, polymers with acetone-phenol reaction products and phenol, potassium sodium salts
P-09-0148 | 01/06/09 | 04/05/09 | Coim USA Inc. | (S) Rigid foam insulation board | (S) Soybean oil, polymer with diethylene glycol and phthalic anhydride
P-09-0149 | 01/06/09 | 04/05/09 | Cognis Corporation | (S) Ultra violet offset printing ink for commercial printing and packaging | (S) Fatty acids, C18-unsaturated, dimers, polymers with piperazine and polypropylene glycol monoacrylate ether with gycerol (3:1)
P-09-0150 | 01/06/09 | 04/05/09 | Hanse Chemie USA, Inc. | (S) Additive to make epoxy resins more flexible | (S) Siloxanes and silicones, di-me, 3-(2-hydroxyphenyl)propyl group-terminated, polymers with bisphenol a diglycidly ether
P-09-0151 | 01/07/09 | 04/06/09 | CBI | (S) Site limited chemical intermediate | (G) Aminoxylate
P-09-0152 | 01/07/09 | 04/06/09 | CBI | (S) Acid dye for coloring anodized aluminum | (G) Product is a trivalent chromium complex of an azo dye
P-09-0153 | 01/07/09 | 04/06/09 | CBI | (S) Acid dye for coloring anodized aluminum | (G) Product is a trivalent chrome complex of an azo dye
P-09-0154 | 01/08/09 | 04/07/09 | CBI | (G) Processing additive intermediate | (G) Vinylsilane ester
P-09-0155 | 01/08/09 | 04/07/09 | CBI | (G) Processing additive intermerdiate | (G) Mercaptosilane ester
P-09-0156 | 01/08/09 | 04/07/09 | CBI | (G) Processing additive | (G) Polysulfide silane
P-09-0157 | 01/08/09 | 04/07/09 | Futurefuel Chemical Company | (S) Biodiesel fuel | (S) Fatty acids, corn oil, methyl esters
P-09-0158 | 01/12/09 | 04/11/09 | Cytec Industries Inc. | (G) Coatings resin | (G) Substituted carbomoncyles, polymer with alkanediols
P-09-0159 | 01/12/09 | 04/11/09 | CBI | (G) Foaming agent | (G) Alcohol ether sulfate amine salt
P-09-0160 | 01/12/09 | 04/11/09 | ICI-IP America Inc. | (S) Flame retardant for textile | (G) 2-propenoic acid, polymer with butyl 2-propenoate, (2,3,4,5,6- pentabromophenyl) methyl 2-propenoate and substitute acrylates
P-09-0161 | 01/12/09 | 04/11/09 | ICI-IP America Inc. | (S) Flame retardant for textile | (G) 2-propenoic acid, polymer with butyl 2-propenoate, 2-(2-ethoxyethoxy)ethyl 2-propenoate, (2,3,4,5,6- pentabromophenyl)methyl 2-propenoate, and substitute acrylates
P-09-0162 | 01/12/09 | 04/11/09 | CBI | (G) Destructive use | (G) Styrenic polymers
P-09-0163 | 01/14/09 | 04/13/09 | CBI | (S) Reactant for the manufacture of a pesticide | (G) Aminohalogenated alkene ester
P-09-0164 | 01/14/09 | 04/13/09 | CBI | (G) Scale control additive to reduce precipitation and fouling by calcium salts in aqueous systems | (G) Sodium polyalkylacrylate
P-09-0165 | 01/14/09 | 04/13/09 | Rahn USA Corp. | (S) Urtra violet/eb inks. The PMN substance acts as a reactive resin in such blends; Ultra violet/eletron beam coatings. The PMN substance acts as a reactive resin in such blends; Ultra violet/eb putty/sealent. The PMN subtance acts as a reactive resin in such blends; Ultra violet/eletron beam adhesives. The PMN substance acts as a reactive resin in such blends; Ultra violet/electron beam = Ultra violet/electron beam reactive formulations | (G) Modified, saturated polyester resin
P-09-0166 | 01/14/09 | 04/13/09 | PPG Industries, Inc. | (G) Component of coating with open use | (G) Butylated melamine
P-09-0167 | 01/14/09 | 04/13/09 | CBI | (G) Raw material for oil field applications | (G) Substituted styrene acrylate copolymer
P-09-0168 | 01/14/09 | 04/13/09 | CBI | (G) Raw material for oil field applications | (G) Substituted styrene acrylate copolymer
P-09-0169 | 01/15/09 | 04/14/09 | CBI | (S) Resin component for 2 part sealants | (G) Isocyanate terminated polyether polyurethane
P-09-0170 | 01/15/09 | 04/14/09 | CBI | (S) Resinious component for 2 part sealants | (G) Isocyanate terminated polyether polyurethane
P-09-0171 | 01/15/09 | 04/14/09 | CBI | (S) Reactant used in the manufacture of a pesticide | (G) Halogenated carbamyal benzoyl alkyl sulfamide
P-09-0172 | 01/21/09 | 04/20/09 | Huntsman International, LLC | (S) Softener padded on cotton fabrics | (G) Substituted carboxylic acid reaction product with substituted amine and amide, acetates
P-09-0173 | 01/21/09 | 04/20/09 | CBI | (G) Polymer additive, open, non-dispersive use | (G) P-toluate, substituted
P-09-0174 | 01/21/09 | 04/20/09 | CBI | (G) Textile treatment | (G) Perfluoroalkylethylmethacrylate copolymer
P-09-0175 | 01/22/09 | 04/21/09 | CBI | (G) Open non-dispersive use (industrial coatings resin) | (G) Aqueous polyurethane resin dispersion
P-09-0176 | 01/22/09 | 04/21/09 | CBI | (G) Vapor barrier | (G) Fluorinated copolymer
P-09-0177 | 01/21/09 | 04/20/09 | CBI | (S) Raw material used in ultra violet curable inks and coatings | (G) Aliphatic urethane acrylate

In Table II of this unit, EPA provides the following information (to the extent that such information is not claimed as CBI) on the TMEs received:

II. 1 Test Marketing Exemption Notice Received From: 12/22/08 to 1/22/09
Case No. | Received Date | Projected Notice End Date | Manufacturer/Importer | Use | Chemical
T-09-0001 | 01/12/09 | 02/25/09 | Cytec Industries Inc. | (G) Coatings resin | (G) Substituted carbomoncyles, polymer with alkanediols

In Table III of this unit, EPA provides the following information (to the extent that such information is not claimed as CBI) on the Notices of Commencement to manufacture received:

III. 29 Notices of Commencement From: 12/22/08 to 01/22/09
Case No. | Received Date | Commencement Notice End Date | Chemical
P-06-0827 | 12/29/08 | 12/02/08 | (G) Heterocycle amine, N-heterocycle, monoammonium salt
P-07-0447 | 12/29/08 | 12/22/08 | (G) Fluoroalkyl acrylate copolymer
P-07-0648 | 01/13/09 | 12/11/08 | (S) Phenol, polymer with formaldehyde, glycidyl ether, polymers with 1,3-benzenedimethanamine, bisphenol a diglycidyl ether, 2-[(C12-14-alkyloxy)methyl]oxirane, epichlorohydrin, 2,2′-[1,2-ethanediylbis(oxy)]bis[ethanamine], polypropylene glycol, polypropylene glycol diglycidyl ether, 2,2′,2′′-[1,2,3-propanetriyltris (oxymethylene)]tris[oxirane] and tetraethylenepentamine
P-07-0669 | 12/23/08 | 12/16/08 | (G) Poly(ethylene oxide)
P-08-0071 | 01/09/09 | 11/14/08 | (G) Fluorosilicone
P-08-0087 | 12/19/08 | 12/03/08 | (G) Alkyl acid reaction products with metal salt of alkyl alcohol
P-08-0181 | 12/30/08 | 11/25/08 | (G) Substituted benzoic acid
P-08-0182 | 12/23/08 | 12/04/08 | (G) Acid modified alumina
P-08-0201 | 01/06/09 | 12/17/08 | (G) Aryl phosphoric acid ester
P-08-0315 | 01/08/09 | 12/15/08 | (G) Hexanedioic acid, polymer with diol and a monohydric alcohol
P-08-0318 | 01/08/09 | 11/10/08 | (G) 3-hydroxy-4-[(4-methyl-3-substituted)azo]-2-naphthalenecarboxylic acid, calcium salt (1:1)
P-08-0332 | 01/16/09 | 12/30/08 | (G) Modified olefins
P-08-0339 | 01/12/09 | 12/18/08 | (G) Dimethylamino alkyl acrylate/dimethylamino alkyl methacrylate polyquaternium ammonium salt
P-08-0392 | 01/07/09 | 12/17/08 | (G) Carbon nanomaterial
P-08-0407 | 12/29/08 | 11/13/08 | (G) Vinyl siloxane polymer with hydrogen siloxane
P-08-0497 | 01/12/09 | 12/16/08 | (G) Alkene-carboxylic acid copolymer salt
P-08-0510 | 01/08/09 | 12/15/08 | (G) Organosulfide
P-08-0515 | 01/07/09 | 12/22/08 | (G) Poly(oxyalkylenediyl), maleate half-ester
P-08-0518 | 01/07/09 | 12/22/08 | (G) Poly(oxyalkylenediyl), substituted maleate half-ester, metal salts
P-08-0622 | 01/06/09 | 12/12/08 | (G) Barium sulfonate
P-08-0656 | 01/08/09 | 12/12/08 | (G) Fatty acids, C18-unsaturated, dimers, polymers with diamines and monoacids
P-08-0665 | 01/08/09 | 12/09/08 | (G) Acrylic acid ester polymer with vinyl glycol derivative and cyclic alkene anhydride
P-08-0668 | 01/08/09 | 12/23/08 | (G) Chlorinated polyolefin
P-08-0680 | 12/30/08 | 12/11/08 | (S) N-[[4-[(cyclopropylamino)carbonyl]phenyl]sulfonyl]-2-methoxybenzamide
P-08-0718 | 01/14/09 | 12/23/08 | (S) Fatty acids, C18-unsaturated, dimers, hydrogenated, polymers with acrylic acid, methacrylic acid and tricyclodecanedimethanol
P-08-0720 | 01/14/09 | 12/29/08 | (S) 1,3-benzenedicarboxylic acid, polymers with tricyclodecanedimethanol, mixed bis(acrylates and methacrylates)
P-08-0754 | 01/15/09 | 01/07/09 | (G) Aryloxyacrylate
P-93-0048 | 12/19/08 | 11/14/08 | (S) 1H-pyrrole-2,5-dione, 1,1′((1-methylethylidene) bis (4,1-phenyleneoxy-4,1-phenylene)) bis-
P-99-0720 | 12/19/08 | 12/10/08 | (G) Polyester of aromatic and aliphatic carboxylic acids with alkane diols.

List of Subjects

Environmental protection, Chemicals, Premanufacturer notices.

Dated: March 6, 2009.
Chandler Sirmons,
Acting Director, Information Management Division, Office of Pollution Prevention and Toxics.

[FR Doc. E9-8361 Filed 4-10-09; 8:45 am]

BILLING CODE 6560-50-S